DEPARTMENT OF COMMERCE

International Trade Administration

A-570-929

Antidumping Duty Order: Small Diameter Graphite Electrodes from the People's Republic of China

AGENCY: Import Administration, International Trade Administration, Department of Commerce.

EFFECTIVE DATE: February 26, 2009.

SUMMARY: Based on affirmative final determinations by the Department of Commerce (the “Department”) and the International Trade Commission (“ITC”), the Department is issuing an antidumping duty order on small diameter graphite electrodes from the People's Republic of China (“PRC”).

FOR FURTHER INFORMATION CONTACT: Magd Zalok or Drew Jackson, AD/CVD Operations, Office 4, Import Administration, International Trade Administration, U.S. Department of Commerce, 14th Street and Constitution Avenue, NW, Washington, DC, 20230; telephone: (202) 482-4162 and 482-4406, respectively.

SUPPLEMENTARY INFORMATION:

Background

In accordance with sections 735(d) and 777(i)(1) of the Tariff Act of 1930, as amended (the “Act”), on January 14, 2009, the Department published the Final Determination of Sales at Less Than Fair Value and Affirmative Determination of Critical Circumstances: Small Diameter Graphite Electrodes from the People's Republic of China, 74 FR 2049 (January 14, 2009) (“Final Determination”).

On February 19, 2009, the ITC notified the Department of its affirmative final determination of material injury to a U.S. industry. See Small Diameter Graphite Electrodes from China, Investigation No. 731-TA-1143 (Final), USITC Publication 4062 (February 2009).

Scope of the Order

The merchandise covered by this order includes all small diameter graphite electrodes of any length, whether or not finished, of a kind used in furnaces, with a nominal or actual diameter of 400 millimeters (16 inches) or less, and whether or not attached to a graphite pin joining system or any other type of joining system or hardware. The merchandise covered by this order also includes graphite pin joining systems for small diameter graphite electrodes, of any length, whether or not finished, of a kind used in furnaces, and whether or not the graphite pin joining system is attached to, sold with, or sold separately from, the small diameter graphite electrode. Small diameter graphite electrodes and graphite pin joining systems for small diameter graphite electrodes are most commonly used in primary melting, ladle metallurgy, and specialty furnace applications in industries including foundries, smelters, and steel refining operations. Small diameter graphite electrodes and graphite pin joining systems for small diameter graphite electrodes that are subject to this order are currently classified under the Harmonized Tariff Schedule of the United States (“HTSUS”) subheading 8545.11.0000. The HTSUS number is provided for convenience and customs purposes, but the written description of the scope is dispositive.

Provisional Measures

Section 733(d) of the Act states that suspension of liquidation instructions issued pursuant to an affirmative preliminary determination may not remain in effect for more than four months except where exporters representing a significant proportion of exports of the subject merchandise request the Department to extend that four-month period to no more than six months. At the request of exporters that account for a significant proportion of small diameter graphite electrodes, we extended the four-month period to no more than six months. See Small Diameter Graphite Electrodes From the People's Republic of China: Preliminary Determination of Sales at Less Than Fair Value, Postponement of Final Determination, and Affirmative Preliminary Determination of Critical Circumstances, in Part, 73 FR 49408 (August 21, 2008) (“Preliminary Determination”). In this investigation, the six-month period beginning on the date of the publication of the Preliminary Determination (i.e., August 21, 2008) ended on February 16, 2009. Furthermore, section 737 of the Act states that definitive duties are to begin on the date of publication of the ITC's final injury determination. Therefore, in accordance with section 733(d) of the Act, we have instructed U.S. Customs and Border Protection (“CBP”) to terminate suspension of liquidation and to liquidate without regard to antidumping duties (i.e., release all bonds and refund all cash deposits), unliquidated entries of small diameter graphite electrodes from the PRC entered, or withdrawn from warehouse, for consumption after February 16, 2009, and before the date of publication of the ITC's final injury determination in the Federal Register. Suspension of liquidation will continue on or after the date of publication of the ITC's final injury determination in the Federal Register.

Antidumping Duty Order

On February 19, 2009, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct CBP to assess, upon further instruction by the Department, antidumping duties equal to the amount by which the normal value of the merchandise exceeds the export price of the merchandise for all relevant entries of small diameter graphite electrodes from the PRC. Except for the entries noted above,¹ these antidumping duties will be assessed on all unliquidated entries of small graphite electrodes from the PRC entered, or withdrawn from the warehouse, for consumption on or after August 21, 2008, the date on which the Department published its Preliminary Determination. See Preliminary Determination.

¹ Namely, entries of small diameter graphite electrodes from the PRC entered, or withdrawn from warehouse, for consumption after February 16, 2009, and before the date of publication of the ITC's final injury determination in the Federal Register.

The ITC also notified the Department that it made a negative critical circumstances determination in this investigation. Therefore, we will instruct CBP to lift suspension, release any bond or other security, and refund any cash deposit made to secure the payment of antidumping duties with respect to entries of the merchandise entered, or withdrawn from warehouse, for consumption prior to August 21, 2008 (i.e., during the 90 days prior to the date of publication of the Preliminary Determination).

Effective on the date of publication of the ITC's final affirmative injury determination, CBP will require, at the same time as importers would normally deposit estimated duties on this merchandise, a cash deposit equal to the estimated weighted-average antidumping duty margins listed below. See section 735(c)(3) of the Act. The “PRC-wide” rate applies to all exporters of subject merchandise not specifically listed. The weighted-average dumping margins are as follows:

Exporter & Producer | Weighted-Average Margin
Fushun Carbon Co., Ltd., Produced by: Fushun Carbon Co., Ltd. | 159.64%%
Fangda Carbon New Material Co., Ltd., Produced by: Fangda Carbon New Material Co., Ltd. | 159.64%%
Beijing Fangda Carbon Tech Co., Ltd., Produced by: Chengdu Rongguang Carbon Co., Ltd.; Fangda Carbon New Material Co., Ltd.; or Fushun Carbon Co., Ltd. | 159.64%%
Chengdu Rongguang Carbon Co., Ltd., Produced by: Chengdu Rongguang Carbon Co., Ltd. | 159.64%%
Jilin Carbon Import and Export Company, Produced by: Sinosteel Jilin Carbon Co., Ltd. | 132.90%%
Guanghan Shida Carbon Co., Ltd., Produced by: Guanghan Shida Carbon Co., Ltd. | 132.90%%
Nantong River-East Carbon Joint Stock Co., Ltd., Produced by: Nantong River-East Carbon Co., Ltd.; or Nantong Yangzi Carbon Co., Ltd. | 132.90%%
Xinghe County Muzi Carbon Co. Ltd., Produced by: Xinghe County Muzi Carbon Co., Ltd. | 132.90%%
Brilliant Charter Limited, Produced by: Nantong Falter New Energy Co., Ltd.; or Shanxi Jinneng Group Co., Ltd. | 132.90%%
Shijiazhuang Huanan Carbon Factory, Produced by: Shijiazhuang Huanan Carbon Factory | 132.90%%
Shenyang Jinli Metals & Minerals Imp & Exp Co., Ltd., Produced by: Shenyang Jinli Metals & Minerals Imp. & Exp. Co., Ltd. | 132.90%%
Shanghai Jinneng International Trade Co., Ltd., Produced by: Shanxi Jinneng Group Datong Energy Development Co., Ltd. | 132.90%%
Dalian Thrive Metallurgy Import and Export Co., Ltd., Produced by: Linghai Hongfeng Carbon Products Co., Ltd.; Tianzhen Jintian Graphite Electrodes Co., Ltd.; Jiaozuo Zhongzhou Carbon Products Co., Ltd.; Heilongjiang Xinyuan Carbon Products Co., Ltd.; Xuzhou Jianglong Carbon Manufacture Co., Ltd.; or Xinghe Xinyuan Carbon Products Co., Ltd. | 132.90%%
GES (China) Co., Ltd., Produced by: Shanghai GC Co., Ltd.; Fushun Jinli Petrochemical Carbon Co., Ltd.; Xinghe County Muzi Carbon Plant and Linyi County Lubei Carbon Co., Ltd. Shandong Province | 132.90%%
Qingdao Haosheng Metals & Minerals Imp & Exp Co., Ltd., Produced by: Sinosteel Jilin Carbon Co., Ltd. | 132.90%%
PRC-Wide Entity | 159.64%%

This notice constitutes the antidumping duty order with respect to small diameter graphite electrodes from the PRC pursuant to section 736(a) of the Act. Interested parties may contact the Department's Central Records Unit, Room 1117 of the main Commerce building, for copies of an updated list of antidumping duty orders currently in effect.

This order is published in accordance with section 736(a) of the Act and 19 CFR 351.211.

Dated: February 20, 2009.
Ronald K. Lorentzen,
Acting Assistant Secretary for Import Administration.

[FR Doc. E9-4126 Filed 2-25-09; 8:45 am]

BILLING CODE 3510-DS-S